DEPARTMENT OF HOUSING AND URBAN DEVELOPMENT

[Docket No. FR-5191-N-29]

Notice of Proposed Information Collection: Comment Request; Multifamily Housing Procedures for Projects Affected by Presidentially-Declared Disasters

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: December 1, 2008.

ADDRESSES: Interested persons are invited to submit comments regarding this proposal. Comments should refer to the proposal by name and/or OMB Control Number and should be sent to: Lillian Dietzer, Reports Management Officer, Department of Housing and Urban Development, 451 7th Street, SW., L'Enfant Plaza Building, Room 8001, Washington, DC 20410 or Lillian_L_Dietzer@hud.gov .

FOR FURTHER INFORMATION CONTACT: Brandt Witte, Housing Program Manager, Office of Asset Management, Department of Housing and Urban Development, 451 7th Street, SW., Washington, DC 20410, telephone (202) 402-2614 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Multifamily Housing Procedures for Projects Affected by Presidentially-Declared Disasters.

OMB Control Number, if applicable: New Collection-No Number Assigned.

Description of the need for the information and proposed use: The purpose of this information collection is to ensure that owners follow HUD procedures regarding recovery efforts after a Presidentially-declared disaster.

Agency form numbers, if applicable: None.

Estimation of the total numbers of hours needed to prepare the information collection including number of respondents, frequency of response, and hours of response: The number of burden hours is estimated to be 393. The number of respondents is 29,281, the frequency of response is 1, the number of responses is based on the average number of declared disasters within the last three years (averaged at 54 per year), and the total burden hours per response is 7.25.

Status of the proposed information collection: This is a new collection.

Authority: The Paperwork Reduction Act of 1995, 44 U.S.C., Chapter 35, as amended.

Dated: September 24, 2008.
Ronald Y. Spraker,
Acting General Deputy Assistant, Secretary for Housing Deputy Federal Housing Commissioner.

[FR Doc. E8-23207 Filed 10-1-08; 8:45 am]

BILLING CODE 4210-67-P